FEDERAL COMMUNICATIONS COMMISSION

Information Collection Being Reviewed by the Federal Communications Commission

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before September 12, 2011. If you anticipate that you will be submitting comments, but find it difficult to do so within the period of time allowed by this notice, you should advise the contact listed below as soon as possible.

ADDRESSES: Submit your PRA comments to Nicholas A. Fraser, Office of Management and Budget, via fax at 202-395-5167 or via Internet at Nicholas_A._Fraser@omb.eop.gov and to Paul Laurenzano, FCC, via e-mail PRA@fcc.gov and to Paul.Laurenzano@fcc.gov.

FOR FURTHER INFORMATION CONTACT: For additional information about the information collection, contact Paul Laurenzano at (202) 418-1359.

SUPPLEMENTARY INFORMATION:

OMB Control Number: 3060-0704.

Title: Sections 42.10, 42.11, 64.1900 and Section 254(g): Policies and Rules Concerning the Interstate, Interexchange Marketplace.

Form Number: N/A.

Type of Review: Extension of a currently-approved collection.

Respondents: Business or other for-profit.

Number of Respondents and Responses: 700 respondents; 2,800 responses.

Estimated Time per Response: .50-2 hours.

Frequency of Response: Annual reporting requirements, third party disclosure requirements and recordkeeping requirement.

Obligation to Respond: Required to obtain or retain benefits. Statutory authority for this information collection is contained in section 254(g) of the Communications Act of 1934, as amended.

Total Annual Burden: 2,450 hours.

Total Annual Cost: No cost.

Privacy Act Impact Assessment: No impact.

Nature and Extent of Confidentiality: The Commission is not requesting that the respondents submit confidential information to the Commission. If the Commission requests respondents to submit information which respondents believe is confidential, respondents may request confidential treatment of such information under 47 CFR section 0.459 of the Commission's rules.

Needs and Uses: The Commission will submit this information collection as an extension (no change in reporting, third party disclosure requirements, and/or recordkeeping requirements) after this 60-day comment period in order to obtain the full three year clearance from the OMB. The four information collection requirements under this OMB Control Number are information disclosure requirements, internet posting requirements, recordkeeping requirements, and annual certification requirements. These requirements are necessary to provide consumers ready access to information concerning the rates, terms, and conditions governing the provision of interstate, domestic, interexchange services offered by nondominant interexchange carriers (IXCs) in a detariffed and increasingly competitive environment. The information collected under the information disclosure requirement and the Internet posting requirement must be disclosed to the public to ensure that consumers have access to the information they need to select a telecommunications carrier and to bring to the Commission's attention possible violations of the Communications Act without a specific public disclosure requirement. The information collected under the recordkeeping and certification requirements will be used by the Commission to ensure that affected interexchange carriers fulfill their obligations under the Communications Act, as amended. There has been an adjustment since the previous submission because the number of responses was miscalculated in the previous submission. As such, the number of responses has increased from 700 to 2,800 (an increase of 2,100 responses).

Federal Communications Commission.
Bulah P. Wheeler,
Deputy Manager, Office of the Secretary, Office of Managing Director.

[FR Doc. 2011-17563 Filed 7-12-11; 8:45 am]

BILLING CODE 6712-01-P